DEPARTMENT OF DEFENSE

Department of the Navy

Notice of Availability of Environmental Assessment for Strike Fighter Realignment at Naval Air Station Lemoore, CA

AGENCY: Department of the Navy, DoD.

ACTION: Notice.

SUMMARY: Pursuant to section 102(2)(c) of the National Environmental Policy Act (NEPA) of 1969 as implemented by the Council on Environmental Quality Regulations (40 Code of Federal Regulations [CFR] parts 1500-1508), the Department of the Navy (DoN), gives notice that a draft Environmental Assessment (EA) has been prepared for the proposed realignment of strike fighter assets at Naval Air Station (NAS) Lemoore.

Dates and Addresses: Written comments on the draft EA must be postmarked no later than August 29, 2011, to ensure consideration in the final EA. Comments should be as specific as possible. Comments should be mailed to: Navy Strike Fighter Realignment EA Project Manager; Naval Facilities Engineering Command, Southwest; Attn: Code EV21.AK; 1220 Pacific Highway, Building 1, 5th Floor; San Diego, CA 92132.

SUPPLEMENTARY INFORMATION: The draft EA evaluates the potential environmental effects of relocating two east coast FA-18 E/F Super Hornet squadrons to NAS Lemoore, and transitioning five NAS Lemoore based FA-18 Hornet squadrons to Super Hornets. The proposed action, when combined with a reduction in the size of NAS Lemoore's existing training squadron, will result in a total decrease of four aircraft at the air station (from 238 to 234) and a reduction in base air operations.

The draft EA is available for public review at the following Web site: http://www.cnic.navy.mil/cnrsw. In addition, paper copies of the draft EA are available for review at the following libraries:

1. Kings County Library, Lemoore Branch Library, 457 “C” Street, Lemoore, CA 93245.

2. Kings County Library, Hanford Branch Library (Main), 401 North Douty Street, Hanford, CA 93230.

3. Fresno County Public Library, Central Library, 2420 Mariposa Street, Fresno, CA 93721.

4. Riverdale Branch Library, 20975 Malsbary Avenue, Riverdale, CA 93656.

5. West Hills Community College Library, 555 College Avenue, Lemoore, CA 93245.

Spanish language informational materials will be made available on the Web site: http://www.cnic.navy.mil/cnrsw and upon written request to: Navy Strike Fighter Realignment EA Project Manager; Naval Facilities Engineering Command, Southwest; Attn: Code EV21.AK; 1220 Pacific Highway Building 1, 5th Floor; San Diego, CA 92132.

Dated: July 20, 2011.
L.M. Senay,
Lieutenant, Judge Advocate General's Corps, U.S. Navy, Federal Register Liaison Officer.

[FR Doc. 2011-18819 Filed 7-25-11; 8:45 am]

BILLING CODE 3810-FF-P